DEPARTMENT OF TRANSPORTATION

Federal Aviation Administration

14 CFR Part 39

[Docket No. FAA-2007-27257; Directorate Identifier 2006-NM-131-AD; Amendment 39-15297; AD 2007-25-15]

RIN 2120-AA64

Airworthiness Directives; Airbus Model A300 Series Airplanes and Model A300-600 Series Airplanes

AGENCY: Federal Aviation Administration (FAA), Department of Transportation (DOT).

ACTION: Final rule.

SUMMARY: The FAA is adopting a new airworthiness directive (AD) for all Airbus Model A300 series airplanes; and all Airbus Model A300-600 series airplanes. This AD requires inspecting to determine the part number of the sliding rods of the main landing gear (MLG) retraction actuators. For MLG retraction actuators equipped with sliding rods having certain part numbers, the AD also requires inspecting for discrepancies, including but not limited to cracking, of the sliding rod; and performing corrective actions if necessary. This AD also requires returning affected sliding rods to the manufacturer. This AD results from a report of a failure of a sliding rod of the MLG retraction actuator before the actuator reached the life limit established by the manufacturer. We are issuing this AD to prevent failure of the sliding rod of the MLG retraction actuator, which could result in reduced structural integrity of the MLG.

DATES: This AD becomes effective January 14, 2008.

The Director of the Federal Register approved the incorporation by reference of certain publications listed in the AD as of January 14, 2008.

ADDRESSES: For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Thomas Stafford, Aerospace Engineer, International Branch, ANM-116, FAA, Transport Airplane Directorate, 1601 Lind Avenue, SW., Renton, Washington 98057-3356; telephone (425) 227-1622; fax (425) 227-1149.

SUPPLEMENTARY INFORMATION:

Discussion

The FAA issued a supplemental notice of proposed rulemaking (NPRM) to amend 14 CFR part 39 to include an AD that would apply to all Airbus Model A300-600 series airplanes. That supplemental NPRM was published in the Federal Register on September 19, 2007 (72 FR 53489). That supplemental NPRM proposed to require inspecting to determine the part number of the sliding rods of the main landing gear (MLG) retraction actuators. For MLG retraction actuators equipped with sliding rods having certain part numbers, the supplemental NPRM also proposed to require inspecting for discrepancies, including but not limited to cracking, of the sliding rod; and performing corrective actions if necessary. The supplemental NPRM also proposed to require returning affected sliding rods to the manufacturer.

Comments

We provided the public the opportunity to participate in the development of this AD. No comments have been received on the supplemental NPRM or on the determination of the cost to the public.

Conclusion

We have carefully reviewed the available data and determined that air safety and the public interest require adopting the AD as proposed in the supplemental NPRM.

Costs of Compliance

The following table provides the estimated costs for U.S. operators to comply with this AD, at an average labor rate of $80 per work hour, per inspection cycle.

Estimated Costs
Action | Work hours | Parts | Cost per airplane | Number of U.S.-registered airplanes | Fleet cost
Inspection to determine part number | 1 | None | $80 | 168 | $13,440
Inspections for discrepancies | 11 | None | 880 | 168 | 147,840

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-25-15 Airbus: Amendment 39-15297. Docket No. FAA-2007-27257; Directorate Identifier 2006-NM-131-AD.

Effective Date

(a) This AD becomes effective January 14, 2008.

Affected ADs

(b) None.

Applicability

(c) This AD applies to all Airbus Model A300 series airplanes; and all Airbus Model A300-600 series airplanes; certificated in any category.

Unsafe Condition

(d) This AD results from a report of a failure of a sliding rod of the main landing gear (MLG) retraction actuator before the actuator reached the life limit established by the manufacturer. We are issuing this AD to prevent failure of the sliding rod of the MLG retraction actuator, which could result in reduced structural integrity of the MLG.

Compliance

(e) You are responsible for having the actions required by this AD performed within the compliance times specified, unless the actions have already been done.

Service Bulletin Reference

(f) The term “service bulletin,” as used in this AD, means the Accomplishment Instructions of the service bulletins identified in paragraphs (f)(1) and (f)(2) of this AD, as applicable.

(1) For Model A300 series airplanes: Airbus Service Bulletin A300-32-0450, Revision 01, excluding Appendix 01, dated May 10, 2006.

(2) For Model A300-600 series airplanes: Airbus Service Bulletin A300-32-6097, Revision 01, excluding Appendix 01, dated May 10, 2006.

Note 1: The Airbus service bulletins refer to Messier-Dowty Special Inspection Service Bulletin 470-32-806, dated October 27, 2005, as an additional source of service information for performing detailed and high-frequency eddy current (HFEC) inspections to detect discrepancies of the sliding rod.

Inspection To Determine Part Number (P/N) of Sliding Rod

(g) At the applicable time specified in paragraph (g)(1) or (g)(2) of this AD, do a one-time inspection to determine the part number of the sliding rod of the MLG retraction actuator, in accordance with the applicable service bulletin. If no sliding rod having P/N C69029-2 or C69029-3 is installed, no further action is required by this paragraph. A review of airplane maintenance records is acceptable in lieu of this inspection if the part number of the sliding rod of the MLG retraction actuator can be conclusively determined from that review.

(1) For airplanes that have accumulated less than 27,000 total flight cycles on the MLG retraction actuator as of the effective date of this AD: After accumulating total 27,000 flight cycles on the MLG retraction actuator, do the inspection within the next 1,000 flight cycles or 12 months, whichever occurs first.

(2) For airplanes that have accumulated 27,000 or more total flight cycles on the MLG retraction actuator as of the effective date of this AD: Do the inspection within 1,000 flight cycles or 12 months, whichever occurs first, after the effective date of this AD.

Inspection for Discrepancies of Sliding Rod and Corrective Actions

(h) For MLG retraction actuators equipped with sliding rods having P/N C69029-2 or C69029-3: At the applicable time specified in paragraph (h)(1) or (h)(2) of this AD, perform detailed and HFEC inspections of the sliding rod of the MLG retraction actuators on the left-hand and right-hand MLGs, in accordance with the applicable service bulletin. Then, before further flight, perform all applicable corrective actions, in accordance with the applicable service bulletin.

(1) For airplanes that have accumulated less than 27,000 total flight cycles on the MLG retraction actuator as of the effective date of this AD: After accumulating 27,000 total flight cycles on the MLG retraction actuator, do the inspections within the next 1,000 flight cycles or 12 months, whichever occurs first.

(2) For airplanes that have accumulated 27,000 or more total flight cycles on the MLG retraction actuator as of the effective date of this AD: Do the inspections within 1,000 flight cycles or 12 months, whichever occurs first, after the effective date of this AD.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 3: Operators should note that the MLG retraction actuator rod must be replaced with a new or serviceable actuator rod before the 32,000-flight-cycle life limit specified in the applicable airworthiness limitations document, regardless of the inspection findings.

Return of MLG Retraction Actuator Sliding Rod

(i) For airplanes having any retraction actuator sliding rods specified in paragraphs (i)(1) and (i)(2) of this AD: After the effective date of this AD, for the first replacement of the retraction actuator sliding rod, return the retraction actuator sliding rod to Messier-Dowty, SA Product Support Engineering, BP10—78142 Velizy Cedex, France, within 30 days after the retraction actuator sliding rod is removed from the airplane.

(1) Any retraction actuator sliding rod that is found to have cracking during the actions specified in paragraph (h) of this AD.

(2) Any retraction actuator sliding rod, P/N C69029-2 or C69029-3, removed that has accumulated between 27,000 total flight cycles and 32,000 total flight cycles.

Parts Installation for MLG Retraction Actuator Rod

(j) As of the effective date of this AD, no person may install, on any airplane, an MLG retraction actuator that is equipped with a sliding rod having P/N C69029-2 or C69029-3, and on which the retraction actuator rod has accumulated 27,000 total flight cycles or more, unless paragraph (h) of this AD is accomplished.

(k) As of the effective date of this AD, any MLG retraction actuator that is equipped with a sliding rod having P/N C69029-2 or C69029-3, and on which the retraction actuator rod has accumulated less than 27,000 total flight cycles, may be installed, on any airplane, provided that the inspections specified in paragraph (h) of this AD are accomplished at the time specified in paragraph (h)(1) of this AD.

Actions Accomplished According to a Previous Issue of the Service Bulletins

(l) Inspections and corrective actions done before the effective date of this AD in accordance with the following service bulletins are acceptable for compliance with the corresponding requirements of this AD:

(1) For Model A300 series airplanes: Airbus Service Bulletin A300-32-0450, excluding Appendix 01, dated December 1, 2005.

(2) For Model A300-600 series airplanes: Airbus Service Bulletin A300-32-6097, excluding Appendix 01, dated December 1, 2005.

Alternative Methods of Compliance (AMOCs)

(m)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(n) European Aviation Safety Agency airworthiness directive 2006-0075R2, dated January 4, 2007, also addresses the subject of this AD.

Material Incorporated by Reference

(o) You must use Airbus Service Bulletin A300-32-0450, Revision 01, excluding Appendix 01, dated May 10, 2006; or Airbus Service Bulletin A300-32-6097, Revision 01, excluding Appendix 01, dated May 10, 2006; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the FAA, Transport Airplane Directorate, 1601 Lind Avenue, SW., Renton, Washington 98057-3356; or at the National Archives and Records Administration (NARA). For information on the availability of this material at NARA, call 202-741-6030, or go to: http://www.archives.gov/federal-register/cfr/ibr-locations.html.

Issued in Renton, Washington, on November 29, 2007.
Stephen P. Boyd,
Assistant Manager, Transport Airplane Directorate, Aircraft Certification Service.

[FR Doc. E7-23673 Filed 12-7-07; 8:45 am]

BILLING CODE 4910-13-P